DEPARTMENT OF LABOR

Employment and Training Administration

[TA-W-39,282, Wilmington, NC, TA-W-39,282A, Leland, NC, TA-W-39,282B, Kinston, NC, TA-W-39,282C, Grifton, NC, TA-W-39,282D, Charleston, SC, TA-W-39,282E, Moncks Corner, SC]

Standard Corporation, Integrated Logistics; Notice of Negative Determination Regarding Application for Reconsideration

By application dated on April 18, 2002, the company requested administrative reconsideration of the Department's negative determination regarding eligibility for workers and former workers of the subject firm to apply for Trade Adjustment Assistance (TAA). The denial notice applicable to workers of Standard Corporation, Integrated Logistics, Wilmington, North Carolina (TA-W-39,282), Leland, North Carolina (TA-W-39,382A), Kinston, North Carolina (TA-W-39,282B), Grifton, North Carolina (TA-W-39,282C), Charleston, South Carolina (TA-W-39,282D) and Moncks Corner, South Carolina (TA-W-39,282E) was signed on March 5, 2002, and published in the Federal Register on March 20, 2002 (67 FR 13012).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition was filed on behalf of workers at Standard Corporation, Integrated Logistics, Wilmington, North Carolina (TA-W-39,282), Leland, North Carolina (TA-W-39,382A), Kinston, North Carolina (TA-W-39,282B), Grifton, North Carolina (TA-W-39,282C), Charleston, South Carolina (TA-W-39,282D) and Moncks Corner, South Carolina (TA-W-39,282E) engaged in activities related to providing distribution and warehousing services for an unaffiliated customer that produces polyester fibers. The petition was denied because the petitioning workers did not produce an article within the meaning of section 222(3) of the Act.

In the request for reconsideration, the company indicated that Standard Corporation workers play a vital role in the manufacturing of polyester fibers for Dupont. The petitioner indicated that once the polyester fibers are released from the Dupont Corporation production area, the product is then transported through an in-line conveyor system to the Standard Corporation work area. Standard Corporation associates off-load the polyester fiber and perform the packaging, quality checks, as well as, transport the product to a designated staging area within the Dupont Manufacturing plant.

The new data supplied by the petitioner show that the subject plant workers performed services that are a stage beyond the production performed at the unaffiliated, certified TAA Dupont Corporation, Polyester Enterprise, (Wilmington, North Carolina, TA-W-39,743, Kinston, North Carolina, TA-W-39,743A and Charleston, South Carolina, TA-W-39,743B) plants. Therefore, as indicated in the initial decision, workers do not produce an article within the meaning of section 222(3) of the Trade Act of 1974, is correct.

Conclusion

After review of the application and investigative findings, I conclude that there has been no error or misinterpretation of the law or of the facts which would justify reconsideration of the Department of Labor's prior decision. Accordingly, the application is denied.

Signed at Washington, DC, this 20th day of June, 2002.
Edward A. Tomchick,
Director, Division of Trade Adjustment Assistance.

[FR Doc. 02-17141 Filed 7-8-02; 8:45 am]

BILLING CODE 4510-30-P